DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more individuals, entities, and vessels that have been placed on OFAC's Specially Designated Nationals and Blocked Persons List (SDN List). OFAC has determined that one or more applicable legal criteria were satisfied to place the individuals and entities on the SDN List. All property and interests in property subject to U.S. jurisdiction of these individuals and entities are blocked, and U.S. persons are generally prohibited from engaging in transactions with them. The vessels placed on the SDN List have been identified as property in which a blocked person has an interest.

DATES: See Supplementary Information section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action[s]

On June 18, 2020, OFAC determined that the property and interests in property subject to U.S. jurisdiction of the following individuals and entities are blocked pursuant to the relevant sanctions authorities below.

Individuals

1. ESPARZA GARCIA, Veronica; DOB 16 Jan 1973; POB Mexico; citizen Mexico; C.U.R.P. EAGV730116MSLSRR04 (individual) [VENEZUELA-EO13850].

Designated pursuant to section 1(a)(i) and 1(a)(iii) of Executive Order 13850 of November 1, 2018, “Blocking Property of Additional Persons Contributing to the Situation in Venezuela,” 83 FR 55243, 3 CFR, 2019 Comp., p. 881 (E.O. 13850), as amended by Executive Order 13857 of January 25, 2019, “Taking Additional Steps To Address the National Emergency With Respect to Venezuela,” 84 FR 509 (E.O. 13857), for operating in the oil sector of the Venezuelan economy and for having materially assisted, sponsored, or provided financial, material, or technological support for, or goods or services to or in support of Petróleos de Venezuela, S.A. (PdVSA), a person whose property and interests in property are blocked pursuant to the Order.

2. LEAL JIMENEZ, Joaquin; DOB 17 Jul 1992; POB Mexico; citizen Mexico; C.U.R.P. LEJJ920717HGTLMQ01 (individual) [VENEZUELA-EO13850].

Designated pursuant to section 1(a)(i) and 1(a)(iii) of E.O. 13850, as amended by E.O. 13857, for operating in the oil sector of the Venezuelan economy and for having materially assisted, sponsored, or provided financial, material, or technological support for, or goods or services to or in support of PdVSA, a person whose property and interests in property are blocked pursuant to the Order.

3. ZEPEDA ESPARZA, Olga Maria; DOB 29 Jul 1996; POB Sinaloa, Mexico; citizen Mexico; Passport G16310107 (Mexico); C.U.R.P. ZEEO960729MSLPSL09 (individual) [VENEZUELA-EO13850].

Designated pursuant to section 1(a)(i) and 1(a)(iii) of E.O. 13850, as amended by E.O. 13857, for operating in the oil sector of the Venezuelan economy and for having materially assisted, sponsored, or provided financial, material, or technological support for, or goods or services to or in support of PdVSA, a person whose property and interests in property are blocked pursuant to the Order.

Entities

4. DELOS VOYAGER SHIPPING LTD, Trust Company Complex, Ajeltake Road, Ajeltake Island, Majuro, Marshall Islands; Registered Owner Number IMO 6019130 [VENEZUELA-EO13850].

Designated pursuant to section 1(a)(i) of E.O. 13850, as amended by E.O. 13857, for operating in the oil sector of the Venezuelan economy.

5. ROMINA MARITIME CO INC, 5th Floor, 99, Akti Miaouli, 185 38, Piraeus, Greece; Registered Owner Number IMO 5967632 [VENEZUELA-EO13850].

Designated pursuant to section 1(a)(i) of E.O. 13850, as amended by E.O. 13857, for operating in the oil sector of the Venezuelan economy.

6. ALEL TECHNOLOGIES LLC, 778 Boylston Street, Unit 6B, Boston, MA 02199, United States; DE, United States; TX, United States; CA, United States; Tax ID No. 32071216470 (Texas) (United States); File Number 7136946 (Delaware) (United States) [VENEZUELA-EO13850].

Designated pursuant to section 1(a)(iv) of E.O. 13850, as amended by E.O. 13857, for being owned or controlled by LEAL JIMENEZ, Joaquin, a person whose property and interests in property are blocked pursuant to the Order.

7. COSMO RESOURCES PTE. LTD., 6 Raffles Quay #14-04/05, Singapore; Registration Number 202004238H (Singapore) [VENEZUELA-EO13850].

Designated pursuant to section 1(a)(iv) of E.O. 13850, as amended by E.O. 13857, for being owned or controlled by LEAL JIMENEZ, Joaquin, a person whose property and interests in property are blocked pursuant to the Order.

8. LIBRE ABORDO, S.A. DE C.V., Av. Constituyentes 345 Oficina 208, Colonia Daniel Garza, Alcaldia Miguel Hidalgo, C.P 11830, Mexico City, Mexico; RFC LAB100708RW2 (Mexico) [VENEZUELA-EO13850].

Designated pursuant to section 1(a)(i) and 1(a)(iii) of E.O. 13850, as amended by E.O. 13857, for operating in the oil sector of the Venezuelan economy and for having materially assisted, sponsored, or provided financial, material, or technological support for, or goods or services to or in support of PdVSA, a person whose property and interests in property are blocked pursuant to the Order.

9. LUZY TECHNOLOGIES LLC, 778 Boylston Street, Unit 6B, Boston, MA 02199, United States; DE, United States; File Number 7136973 (Delaware) (United States) [VENEZUELA-EO13850].

Designated pursuant to section 1(a)(iv) of E.O. 13850, as amended by E.O. 13857, for being owned or controlled by LEAL JIMENEZ, Joaquin, a person whose property and interests in property are blocked pursuant to the Order.

10. SCHLAGER BUSINESS GROUP S. DE R.L. DE C.V., Constituyentes 345 Oficina 208, Col. Daniel Garza, Alcaldia Miguel Hidalgo, C.P 11830, Mexico City, Mexico; RFC SBG1611153R6 (Mexico) [VENEZUELA-EO13850].

Designated pursuant to section 1(a)(i) and 1(a)(iii) of E.O. 13850, as amended by E.O. 13857, for operating in the oil sector of the Venezuelan economy and for having materially assisted, sponsored, or provided financial, material, or technological support for, or goods or services to or in support of PdVSA, a person whose property and interests in property are blocked pursuant to the Order.

11. WASHINGTON TRADING LTD, Address: 71-75 Shelton Street, Covent Garden, London WC2H 9JQ, United Kingdom; Company Number 12447296 (United Kingdom) [VENEZUELA-EO13850].

Designated pursuant to section 1(a)(iv) of E.O. 13850, as amended by E.O. 13857, for being owned or controlled by ZEPEDA ESPARZA, Olga Maria, a person whose property and interests in property are blocked pursuant to the Order.

On June 18, 2020, OFAC also identified the following vessels as property in which a blocked person has an interest under the relevant sanctions authority listed below:

Vessels

12. DELOS VOYAGER Crude Oil Tanker Panama flag; Vessel Registration Identification IMO 9273052 (vessel) [VENEZUELA-EO13850] (Linked To: DELOS VOYAGER SHIPPING LTD).

Identified pursuant to E.O. 13850, as amended by E.O. 13857, as property in which DELOS VOYAGER SHIPPING LTD, a person whose property and interest in property are blocked pursuant to E.O. 13850, as amended by E.O. 13857, has an interest.

13. EUROFORCE Crude Oil Tanker Liberia flag; Vessel Registration Identification IMO 9251585 (vessel) [VENEZUELA-EO13850] (Linked To: ROMINA MARITIME CO INC).

Identified pursuant to E.O. 13850, as amended by E.O. 13857, as property in which DELOS VOYAGER SHIPPING LTD, a person whose property and interest in property are blocked pursuant to E.O. 13850, as amended by E.O. 13857, has an interest.

Dated: June 18, 2020.
Andrea Gacki,
Director, Office of Foreign Assets Control, U.S. Department of the Treasury.

[FR Doc. 2020-13587 Filed 6-23-20; 8:45 am]

BILLING CODE 4810-AL-P